DEPARTMENT OF AGRICULTURE

Animal and Plant Health Inspection Service

[Docket No. APHIS-2022-0015]

Notice of Availability of an Environmental Assessment for Release of Psyllaephagus euphyllurae for Biological Control of Olive Psyllid in the Contiguous United States

AGENCY: Animal and Plant Health Inspection Service, USDA.

ACTION: Notice of availability.

SUMMARY: We are advising the public that the Animal and Plant Health Inspection Service has prepared an environmental assessment relative to permitting the release of the insect, Psyllaephagus euphyllurae, for the biological control of olive psyllid (Euphyllurae olivina) in the contiguous United States. Based on the environmental assessment and other relevant data, we have reached a preliminary determination that the release of this control agent within the contiguous United States will not have a significant impact on the quality of the human environment. We are making the environmental assessment available to the public for review and comment.

DATES: We will consider all comments that we receive on or before May 2, 2022.

ADDRESSES: You may submit comments by either of the following methods:

• Federal eRulemaking Portal: Go to www.regulations.gov. Enter APHIS-2022-0015 in the Search field. Select the Documents tab, then select the Comment button in the list of documents.

• Postal Mail/Commercial Delivery: Send your comment to Docket No. APHIS-2022-0015, Regulatory Analysis and Development, PPD, APHIS, Station 3A-03.8, 4700 River Road, Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Colin D. Stewart, Assistant Director, Pests, Pathogens, and Biocontrol Permits, Permitting and Compliance Coordination, PPQ, APHIS, 4700 River Road, Unit 133, Riverdale, MD 20737-1238; (301) 851-2327; email: Colin.Stewart@usda.gov.

SUPPLEMENTARY INFORMATION: The Animal and Plant Health Inspection Service (APHIS) is proposing to issue permits for the release of the insect, Psyllaephagus euphyllurae, for the biological control of olive psyllid (Euphyllurae olivina) in the contiguous United States. The action is proposed to reduce the severity of damage to olive crops from infestations of olive psyllid in the contiguous United States.

The olive psyllid is native to southern Europe. It was first detected in North America in 2007. By the time this psyllid was found on olives in southern California, it was widespread in the region. This pest feeds exclusively on the flower blossoms and growing tissue of olive, causing reductions in fruit set, with reductions in fruit yield as high as 60 percent reported in some parts of the Mediterranean Basin.

Permitting the release of P. euphyllurae is necessary to reduce the severity of damage to olives from infestations of olive psyllid. P. euphyllurae is a small, stingless parasitoid wasp specific only to olive psyllid. The adult wasp lays an egg inside the olive psyllid. The egg hatches and consumes the olive psyllid host. The P. euphyllurae then goes into prolonged dormancy as a preadult in the host mummy's remains until the following spring. The wasp poses no risk to humans, livestock, or wildlife.

Current olive psyllid control relies primarily on cultural control and insecticides, which are expensive and temporary. They are not always effective, and they may cause non-target impacts. Host-specificity testing indicates P. euphyllurae is unlikely to attack non-target species. Classical biological control is a potentially useful management strategy for an invasive pest species whenever effective resident natural enemies are lacking in the new distribution range.

APHIS' review and analysis of the potential environmental impacts associated with the proposed release are documented in an environmental assessment (EA) titled “Release of Psyllaephagus euphyllurae (Hymenoptera: Encyrtidae) for Biological Control of Olive Psyllid, Euphyllura olivina (Hemiptera: Liviidae), in the Contiguous United States” (November 2021). Based on our findings in the EA, we are proposing to issue permits for the release of the insect, P. euphyllurae, as a biological control agent to reduce the severity of infestations of olive psyllid. We are making the EA available to the public for review and comment. We will consider all comments that we receive on or before the date listed under the heading DATES at the beginning of this notice.

The EA may be viewed on the regulations.gov website or in our reading room (see ADDRESSES above for a link to regulations.gov and information on the location and hours of the reading room). You may also request paper copies of the EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 25th day of March 2022.
Anthony Shea,
Administrator, Animal and Plant Health Inspection Service.

[FR Doc. 2022-06760 Filed 3-30-22; 8:45 am]

BILLING CODE 3410-34-P